DEPARTMENT OF AGRICULTURE

Natural Resources Conservation Service

[Docket No. NRCS-2013-0007]

Notice of Intent To Prepare a Supplemental Environmental Impact Statement for the Little Otter Creek Watershed Plan, Caldwell County, Missouri

AGENCY: Natural Resources Conservation Service, USDA.

ACTION: Notice of Intent.

SUMMARY: Pursuant to Section 102(2)(c) of the National Environmental Policy Act of 1969 (NEPA); as amended (42 U.S.C. 4321 et seq.), the Natural Resources Conservation Service (NRCS), U.S. Department of Agriculture, as lead federal agency, will prepare a Supplemental Environmental Impact Statement (SEIS) for the Little Otter Creek Watershed Plan (LOCWP), Caldwell County, Missouri, involving the proposed construction of a multi-purpose reservoir. The purpose of this supplement is to address changes which have occurred since the NRCS prepared the Little Otter Creek Watershed Plan and Environmental Impact Statement in 2003. The SEIS will update the original EIS with more recent relevant environmental information and expand the alternatives analysis beyond those previously considered. The SEIS will evaluate reasonable and practicable alternatives and their expected environmental impacts.

ADDRESSES: To be included on the mailing list for review of the SEIS, all requests should be submitted to Mr. Harold Deckerd, USDA-Natural Resources Conservation Service, Parkade Center Suite 250, 601 Business Loop 70 West, Columbia, Missouri 65203-2585.

FOR FURTHER INFORMATION CONTACT: Mr. Harold Deckerd, NRCS Missouri State Office, by email: harold.deckerd@mo.usda.gov, by regular mail (see ADDRESSES), or by telephone: 573-876-0912.

SUPPLEMENTARY INFORMATION: The NRCS in cooperation with the Caldwell County Commission, Caldwell County Soil and Water Conservation District, and the U.S. Army Corps of Engineers (Corps) will prepare an SEIS for the Little Otter Creek Watershed Plan in Caldwell County, Missouri authorized pursuant to the Watershed Protection and Flood Prevention Act, Public Law 83-566, (16 U.S.C. 1001-1008). The NRCS has determined that additional analysis is required and that the purposes of the National Environmental Policy Act would be furthered through the preparation of the SEIS. The Corps will be a cooperating agency in the preparation of the SEIS. The SEIS will consider all reasonable and practicable alternatives to meet the purpose and need for the federal action. The SEIS will assess the potential social, economic, and environmental impacts of the project, and will address Federal, state, and local regulatory requirements along with pertinent environmental and socio-economic issues. The SEIS will analyze the direct, indirect, and cumulative effects of the proposed action. The Federal SEIS process begins with the publication of this Notice of Intent.

1. Background: The 6,323-acre Little Otter Creek Watershed is located two miles east of Hamilton in Caldwell County in northwest Missouri. It is a tributary to Otter Creek which drains to Shoal Creek; the Grand River, and the Missouri River.

Engineering reports dating back nearly fifty years document water supply problems in Caldwell County. Underlying geologic formations severely limit groundwater quality and availability. The Missouri Drought Plan places Caldwell County in a region classified as having “severe surface and groundwater supply drought vulnerability.” Digital models estimate that existing water sources could supply only 37 percent of the county's demand during the drought of record. In addition, the LOCWP documented annual flood damages to crop and pasture land, fences, roads and bridges. The LOCWP also identified the need for additional recreational opportunities in the surrounding area.

At the request of the Caldwell County Commission and the Caldwell County Soil and Water Conservation District, the NRCS began watershed planning activities in July 2000 under the authority of the Watershed Protection and Flood Prevention Act of 1954, Public Law 83-566, as amended (16 U.S.C. 1001-1008). NRCS issued a Notice of Intent to prepare an Environmental Impact Statement in July of 2002. On August 6, 2002, the voters of Caldwell County approved a one-half percent sales tax to assist in funding the local match for project installation. NRCS completed the Little Otter Creek Watershed Plan and Environmental Impact Statement in March 2003 and announced a Record of Decision to proceed with installation in May 2003. The project has not been installed because sufficient funding has not been available. Installation of the proposed action will result in temporary and permanent impacts to jurisdictional waters of the United States requiring a Clean Water Act (CWA) Section 404 permit. The Corps has not issued a Section 404 permit for this project. Comments received during the EIS process suggested that a larger number of reasonable and practicable alternatives be considered. Potential impacts of all reasonable and practicable alternatives will be updated and analyzed in the SEIS in compliance with Section 404(b)(1) of the CWA. The Corps and the U.S. Environmental Protection Agency (USEPA) completed an Approved Jurisdictional Determination in March 2010.

2. Proposed Action: The proposed federal action as presented in the 2003 EIS includes one approximately 362-acre multiple-purpose reservoir on Little Otter Creek, a water intake structure, a raw water line, fish and wildlife habitat enhancement and recreational facilities. The purpose of the proposed federal action is to: Provide approximately 1.24 million gallons per day of locally-controlled raw water supply to meet the projected 50-year usage demand for Caldwell County; provide approximately 60,000 annual recreational user-days and provide an approximate 96% reduction in annual flood damages in the 3.8-miles of Little Otter Creek between the reservoir and the confluence with Otter Creek.

3. Alternatives: The SEIS will evaluate environmental impacts of the following alternatives and any other action alternatives identified that may be reasonable and practicable: (1) Creation of a multi-purpose reservoir; (2) a combination of independent purpose alternatives to meet the overall project purposes and needs; and (3) the no-action alternative. The SEIS will identify the National Economic Development (NED) alternative, which is the alternative with the greatest net economic benefit consistent with protecting the Nation's environment and document the estimated direct, indirect and cumulative impacts of the proposed action and alternatives on the environment.

4. Scoping: In developing the LOCWP, numerous scoping meetings were held to gather public input and keep the community informed on the status of project planning activities. Several community surveys and interviews were conducted to gather information, and periodic news articles were published to update local citizens. The Caldwell County Lake Project Steering Committee was formed to further insure public input into the planning process. NEPA procedures do not require additional public scoping meetings for the development of a SEIS and none are planned at this time. Comments received from Federal, State or local agencies, Native American Tribes, non-governmental organizations, and interested citizens will be used to assist in the development of the Draft and Final SEIS (See ADDRESSES: above to submit comments).

5. Public Involvement: The NRCS invites full public participation to promote open communication and better decision-making. All persons and organizations with an interest in the LOCWP are urged to comment. Public comments are welcomed and opportunities for public participation include submitting comments to the NRCS: (1) During the development of the Draft SEIS, (2) during the review and comment period upon publishing the Draft SEIS; and (3) for 30 days after publication of the Final SEIS. Distribution of the comments received will be included in the Administrative Record without change and may include any personal information provided, unless the commenter indicates that the comment includes information claimed to be confidential business information.

6. Other Environmental Review and Coordination Requirements: The Corps will be a cooperating agency in the preparation of the SEIS. The NRCS as the lead federal agency will continue to coordinate with other agencies and entities throughout the NEPA process including: Caldwell County Commission, Missouri Department of Natural Resources, Missouri Department of Conservation, U.S. Fish and Wildlife Service, and USEPA. The Draft SEIS will address project compliance with applicable laws and regulations, including NEPA, CWA, Endangered Species Act, and the National Historic Preservation Act.

7. Permits or Licenses Required: The proposed federal action would require a CWA Section 404 permit from the Corps. The project would also require certification by the State of Missouri, Department of Natural Resources, under Section 401 of the CWA, that the project would not violate state water quality standards. A land disturbance permit issued by the Missouri Department of Natural Resources under Section 402 of the CWA (National Pollutant Discharge Elimination System Permit) would be required. Construction and Safety Permits issued by the Missouri Dam and Reservoir Safety Program would also be required.

8. Availability of Draft SEIS: The draft SEIS is estimated to be complete and available for public review in 2014.

(This activity is listed in the Catalog of Federal Domestic Assistance under No. 10.904, Watershed Protection and Flood Prevention, and is subject to the provisions of Executive Order 12372, which requires intergovernmental consultation with State and local officials.)

Dated: December 10, 2013.
J.R. Flores,
State Conservationist, Natural Resources Conservation Service.

[FR Doc. 2013-30388 Filed 12-20-13; 8:45 am]

BILLING CODE 3410-16-P